Proclamation 10298 of October 29, 2021

National College Application Month, 2021

By the President of the United States of America

A Proclamation

When America made 12 years of public education universal more than a century ago, it gave us the best-educated, best-prepared workforce in the world—which in turn was a major part of why we were able to lead the world in the 20th century. Today, however, we know that 12 years is no longer enough to compete. American students deserve every opportunity to gain the skills they need to carve out a place for themselves in tomorrow's economy. But according to a recent study, the United States now ranks 33rd out of 44 advanced economies when it comes to the share of our young people who have attained a degree beyond high school.

If we are going to set the pace around the globe once more—on research and development, innovation and discovery, equity and opportunity, and creating good-paying jobs with dignity—it is imperative that we put an affordable, high-quality education after high school within reach of every American student. During College Application Month, we celebrate the possibilities that postsecondary education provides and encourage Americans to apply to colleges and universities as we work to ensure that every student has a chance to reach their full potential and strengthen our Nation's future.

My Administration is working hard to ensure that higher education is equitable, accessible, and affordable for every student in every community. That is why my Administration Build Back Better framework includes major investments in community colleges, as well as our essential network of Historically Black Colleges and Universities (HBCUs), Tribal Colleges and Universities (TCUs), and other Minority Serving Institutions (MSIs). In addition, my plan would increase the Federal Pell Grant award, a key resource to help students from lower-income families afford college—including costs beyond tuition. Each of these investments will help America's young people, including Dreamers, earn a better shot at the good-paying jobs of tomorrow. My Administration is also working to modernize the Free Application for Federal Student Aid form. Finally, we are taking steps to ensure that academic institutions do a better job of providing students with clear and transparent information on how much they can expect to pay for college and their options to afford those costs.

However, as important to our Nation's future as accessing college is, college completion is just as critical. Far too many students enter college only to have to drop out before graduation, and we are seeing firsthand how the pandemic has exacerbated the challenges students face as they seek to complete their studies. COVID-19 has significantly increased economic insecurity for families across the country, particularly for people of color, the LGBTQ+ community, and those in low-income communities, resulting in new, unequal barriers to college enrollment and completion. My Administration stands ready to support our Nation's colleges in welcoming back every student who had to put their education goals on hold due to the pandemic.

My Administration has also called for bold investments in completion and retention at colleges and universities that serve high numbers of low-income students—including community colleges—so that all Americans have the opportunity to obtain an education beyond high school. These investments would help cover proven solutions for student success, including providing wraparound services such as child- and elder-care, mental health services, accessibility resources, and emergency basic needs grants, in order to help more Americans enter and graduate college.

Additionally, my Administration is working hard to provide institutions with funding and flexibility to meet students' needs. Earlier this year, we launched an outreach campaign to millions of Federal Pell Grant recipients who are now eligible for a monthly discount on broadband internet service under a temporary program administered by the Federal Communications Commission. We have also partnered with other agencies across the Federal Government to notify institutions and their students about expanded access to the Supplemental Nutrition Assistance Program, health care benefits, tax cuts for those raising children, and financial aid and postsecondary education opportunities for students and families facing unemployment.

This month, we celebrate the hard work and promise of students across the country and recommit ourselves to building back better by ensuring that everyone in America can pursue and complete a high-quality, affordable higher education. We thank the parents and loved ones, teachers, professors, administrators, financial aid professionals, college access organizations, mentors and counselors who help our students throughout the college application process and beyond.

NOW, THEREFORE, I, JOSEPH R. BIDEN JR., President of the United States of America, by virtue of the authority vested in me by the Constitution and the laws of the United States, do hereby proclaim November 2021 as National College Application Month. I call upon public officials, educators, parents, students, and all Americans to observe this month with appropriate programs, ceremonies, and activities designed to encourage students to make plans about, apply for, and graduate from college.

IN WITNESS WHEREOF, I have hereunto set my hand this twenty-ninth day of October, in the year of our Lord two thousand twenty-one, and of the Independence of the United States of America the two hundred and forty-sixth.

[FR Doc. 2021-24116

Filed 11-2-21; 8:45 am]

Billing code 3395-F2-P